DEPARTMENT OF HEALTH AND HUMAN SERVICES

National Institutes of Health

National Institute of Nursing Research; Amended Notice of Meeting

Notice is hereby given of a change in the meeting of the National Institute of Nursing Research Special Emphasis Panel, June 4, 2015, 11:00 a.m. to June 4, 2015, 1:00 p.m., National Institutes of Health, One Democracy Plaza, 6701 Democracy Boulevard, Bethesda, MD 20892 which was published in the Federal Register on April 27, 2015, 80 FR 23281.

The meeting notice is amended to change the date of the meeting from June 4, 2015 to June 11, 2015. The meeting is closed to the public.

Dated: May 5, 2015.
Michelle Trout,
Program, Analyst, Office of Federal Advisory Committee Policy.

[FR Doc. 2015-11233 Filed 5-8-15; 8:45 am]

BILLING CODE 4140-01-P